DEPARTMENT OF HEALTH AND HUMAN SERVICES

Office of the Secretary

[Document Identifier: HHS-OS-0990-0390-60D]

Agency Information Collection Activities; Proposed Collection; Public Comment Request

AGENCY: Assistant Secretary of Administration, HHS.

ACTION: Notice

SUMMARY: In compliance with section 3506(c)(2)(A) of the Paperwork Reduction Act of 1995, the Office of the Secretary (OS), Department of Health and Human Services, announces plans to submit an Information Collection Request (ICR), described below, to the Office of Management and Budget (OMB). The ICR is for revision of the approved information collection assigned OMB control number 0990-0390 which expires on February 28, 2015. Prior to submitting that ICR to OMB, OS seeks comments from the public regarding the burden estimate, below, or any other aspect of the ICR.

DATES: Comments on the ICR must be received on or before February 9, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS0990-0390-60D for reference.

Information Collection Request Title: Challenge and Prize Competition Solicitations.

Abstract: In 2011, Federal agencies including HHS were given prize authority for administering challenges and competitions. Challenges and competitions enable the Assistant Secretary for Administration, HHS to tap into the expertise and creativity of the public in new ways. In order for HHS to quickly and effectively launch competitions on a continual basis, HHS seeks generic clearance to collect information for these challenges and competitions, which will generally include first name, last name, email, city, state and when applicable other demographic information. It can also include other information necessary to evaluate submissions and understand their impact related to the general goals of the competition.

The information collected will be used to understand whether the participant has met the technical requirements for the challenge, assist in the technical review and judging of the solutions that are provided, and understand the impact and consequences of administering the competition and developing solutions for submission. Information may be collected during the competition or after its completion.

Need and Proposed Use of the Information: In 2011, Federal agencies including HHS were given prize authority for administering challenges and competitions. Section 105(a) of the America Competes Act, adds Section 24 to the Stevenson-Wydler Technology Innovation Act of 1980 (15 U.S.C. 3701 et seq.) that addresses provisions for challenges and competitions with prizes conducted by Federal agencies.

Challenges and competitions enable HHS to tap into the expertise and creativity of the public in new ways. HHS has sponsored challenges and competitions in a wide variety of areas such as recruitment efforts, health data applications and other types of data, development of novel technologies, and communications to increase public participation and solicit new ideas on a wide array of topics important to the agencies mission. HHS's goal is to engage a broader number of stakeholders who are inspired to work on some of our most pressing health issues, thus supporting a new ecosystem of scientists, developers, and entrepreneurs who can continue to innovate for public health.

The generic clearance is necessary for HHS to quickly and effectively launch competitions on a continual basis. The information collected for these challenges and competitions will generally include first name, last name, email, city, state and when applicable other demographic information. It can also include other information necessary to evaluate submissions and understand their impact related to the general goals of the competition. Upon entry or during the judging process, applicants under the age of 18 may be asked to confirm parental consent, requiring students under 18 to have a parent signature in writing on a parental consent form provided by the Department in order to qualify for the contest. For certain challenges we may also need to collect data such as types of data sets used in the solution, types of software tools used in the solution, and information regarding uses of proprietary software (i.e., licenses or use agreements). Information obtained from participants will be used by the program managers (challenge manager), other agency officials (such as general counsel representatives) and in some cases the technical reviewers acting on behalf of the program manager (challenge manager). The information collected will be used to understand whether the participant has met the technical requirements for the challenge, assist in the technical review and judging of the solutions that are provided, and understand the impact and consequences of administering the competition and developing solutions for submission. Information may be collected during the competition or after its completion.

To obtain approval for a collection under this generic, HHS will provide a copy of the Federal Register notice used for the challenge, a standardized form that includes an estimate of the burden, and the instrument (e.g., a questionnaire) to OMB.

Likely Respondents: Likely respondents include individuals, businesses, and state and local governments who choose to participate in a challenge or competition hosted by HHS.

Total Estimated Annualized Burden—Hours
Form name | Number of respondents | Number of responses per respondent | Average burden per response (in hours) | Total burden hours
Individuals or Households | 1000 | 1 | 1/6 | 166.6
Organizations | 1000 | 1 | 1/6 | 166.6
Businesses | 1000 | 1 | 1/6 | 166.6
State, territory, tribal or local governments | 60 | 1 | 1/6 | 10
Total | 3060 |  |  | 510

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2014-28705 Filed 12-8-14; 8:45 am]

BILLING CODE 4150-04-P